ENVIRONMENTAL PROTECTION AGENCY

[ER-FRL-9018-3]

Environmental Impact Statements; Notice of Availability

Responsible Agency: Office of Federal Activities, General Information (202) 564-7146 or http://www.epa.gov/compliance/nepa/.

Weekly receipt of Environmental Impact Statements

Filed 11/24/2014 Through 11/28/2014.

Pursuant to 40 CFR 1506.9.

Notice: Section 309(a) of the Clean Air Act requires that EPA make public its comments on EISs issued by other Federal agencies. EPA's comment letters on EISs are available at: http://www.epa.gov/compliance/nepa/eisdata.html.

EIS No. 20140339, Draft EIS, BLM, NV, Carson City District Draft Resource Management Plan, Comment Period Ends: 03/27/2015, Contact: Colleen Sievers 775-885-6168,

EIS No. 20140340, Final EIS, USFS, SC, Chester County Stream and Riparian/Restoration.

Enhancement Project, Review Period Ends: 01/05/2015, Contact: Jim Knibbs 803-561-4078.

EIS No. 20140341, Final EIS, USFWS, CA, Maricopa Sun Solar Complex Habitat Conservation Plan, Review Period Ends: 01/05/2015, Contact: Mike Thomas 916-414-6600.

EIS No. 20140342, Final EIS, USFS, WY, Teckla-Osage-Rapid City 230 kV Transmission Line Project, Review Period Ends: 01/05/2015, Contact: Edward Fischer 605-673-9207.

EIS No. 20140343, Final EIS, NPS, OH, Cuyahoga Valley National Park, White-tailed Deer Management Plan, Review Period Ends: 01/05/2015, Contact: Craig Kenkel 330-657-2752.

EIS No. 20140344, Final EIS, FHWA, TX, US 181 Harbor Bridge, Review Period Ends: 01/05/2015, Contact: Gregory S. Punske, 512-536-5960.

EIS No. 20140345, Final EIS, FEMA, CA, East Bay Hills, Final Hazardous Fire Risk Reduction, Review Period Ends: 01/07/2015, Contact: Alessandro Amaglio 510-627-7222.

EIS No. 20140346, Final EIS, USDA, AZ, Four-Forest Restoration Initiative, Coconino and Kaibab National Forests, Review Period Ends: 01/20/2015, Contact: Annette Fredette, 928-226-4684.

Amended Notices

EIS No. 20140275, Final EIS, FHWA, AZ, South Mountain Freeway (Loop 202), Review Period Ends: 12/26/2014, Contact: Alan Hansen, 602-382-8964. Revision to FR Notice Published 09/24/2014; Extending Review Period from 11/25/2014 to 12/26/2014

EIS No. 20140297, Draft EIS, USFS, OR, Kahler Dry Forest Restoration Project, Comment Period Ends: 12/29/2014, Contact: John Evans, 541-278-3869. Revision to FR Notice Published 09/24/2014; Extending Review Period from 11/25/2014 to 12/26/2014

EIS No. 20140298, Draft EIS, USACE, WA, Puget Sound Nearshore Ecosystem Restoration, Comment Period Ends: 01/08/2015, Contact: Nancy Gleason 206-764-6577. Revision to FR Notice Published 11/28/2014; Correcting the Extended Comment Period to 01/08/2015.

EIS No. 20140317, Final EIS, USACE, AL, Update of the Water Control Manual for the Alabama-Coosa-Tallapoosa River Basin in Georgia and Alabama, Review Period Ends: 02/05/2015, Contact: Lewis Sumner 251-694-3857. Revision to FR Notice Published 11/07/2014; Extending Review Period from 12/08/2014 to 02/05/2015.

Dated: December 2, 2014.
Cliff Rader,
Director, NEPA Compliance Division, Office of Federal Activities.

[FR Doc. 2014-28576 Filed 12-4-14; 8:45 am]

BILLING CODE 6560-50-P